COMMODITY FUTURES TRADING COMMISSION

Sunshine Act Meetings

FEDERAL REGISTER CITATION OF PREVIOUS ANNOUNCEMENT: 88 FR 8262, February 8, 2023.

PREVIOUSLY ANNOUNCED TIME AND DATE OF THE MEETING: 1:00 p.m. EST, Wednesday, February 15, 2023.

CHANGES IN THE MEETING: The place of the meeting has changed. This meeting will now take place virtually. The meeting time and date, Closed status, and matters to be considered, as previously announced, remain unchanged.

CONTACT PERSON FOR MORE INFORMATION: Christopher Kirkpatrick, 202-418-5964.

Authority: 5 U.S.C. 552b.

Dated: February 9, 2023.
Christopher Kirkpatrick,
Secretary of the Commission.

[FR Doc. 2023-03179 Filed 2-10-23; 11:15 am]

BILLING CODE 6351-01-P